DEPARTMENT OF TRANSPORTATION

Federal Motor Carrier Safety Administration

[Docket No. FMCSA-2007-28043]

Hours of Service (HOS) of Drivers; American Pyrotechnics Assoc. (APA) Application for Exemption From the 14-Hour Rule; Request To Add New Member to Current APA Exemption; Correction

AGENCY: Federal Motor Carrier Safety Administration (FMCSA), DOT.

ACTION: Notice of application for an extension of exemption; request for comments; correction.

SUMMARY: The FMCSA published a document in the Federal Register of May 15, 2017 (82 FR 22375), concerning a request for comments on the American Pyrotechnics Association's request for a member company, Pyro Shows of Alabama, Incorporated, to be included in an existing exemption. The document referenced June 14, 2017, in the DATES section but did not specify the significance of that date, which should have been the end of the comment period.

DATES: Comments must be received on or before June 14, 2017.

FOR FURTHER INFORMATION CONTACT: For information concerning this notice, contact Mr. Thomas Yager, Chief, FMCSA Driver and Carrier Operations Division; Office of Carrier, Driver and Vehicle Safety Standards; Telephone: (614) 942-6477. Email: MCPSD@dot.gov. If you have questions on viewing or submitting material to the docket, contact Docket Services, telephone (202) 366-9826.

SUPPLEMENTARY INFORMATION:

Correction

1. In the Federal Register of May 15, 2017 (82 FR 22375), in FR Doc. 2017-09735, on page 22376, in the first column, correct the DATES paragraph to read:

DATES: Comments must be received on or before June 14, 2017.

Issued on: May 30, 2017.
Larry W. Minor,
Associate Administrator for Policy.

[FR Doc. 2017-11650 Filed 6-5-17; 8:45 am]

BILLING CODE 4910-EX-P